DEPARTMENT OF THE TREASURY

Internal Revenue Service

26 CFR Part 1

[REG-136890-02]

RIN 1545-BA90

Transfers To Provide for Satisfaction of Contested Liabilities; Hearing

AGENCY: Internal Revenue Service (IRS), Treasury.

ACTION: Cancellation of notice of public hearing on proposed rulemaking.

SUMMARY: This document provides notice of cancellation of a public hearing on proposed rulemaking relating to transfers to provide for satisfaction of contested liabilities.

DATES: The public hearing originally scheduled for Tuesday, March 23, 2004, at 10 a.m. is cancelled.

FOR FURTHER INFORMATION CONTACT: Guy R. Traynor, Procedures and Administration, Publications & Regulations Branch, at (202) 622-3693 (not a toll-free number).

SUPPLEMENTARY INFORMATION: A notice of proposed rulemaking and notice of public hearing that appeared in the Federal Register on November 21, 2003 (68 FR 65645), announced that a public hearing was scheduled for March 23, 2004 at 10 a.m., in the auditorium of the Internal Revenue Service, 1111 Constitution Avenue NW., Washington, DC. The subject of the public hearing is proposed regulations under section 461 of the Internal Revenue Code. The public comment period for these proposed regulations expired on February 19, 2004.

The notice of proposed rulemaking and notice of public hearing, instructed those interested in testifying at the public hearing to submit a request to speak and an outline of topics to be addressed by March 2, 2004. As of March 8, 2004, no one has requested to speak. Therefore, the public hearing scheduled for March 23, 2004 is cancelled.

Guy R. Traynor,
Federal Register Certifying Officer, Publications & Regulations Branch, Legal Processing Division, Associate Chief Counsel (Procedures & Administration).

[FR Doc. 04-5562 Filed 3-10-04; 8:45 am]

BILLING CODE 4830-01-P